DEPARTMENT OF TRANSPORTATION

Federal Aviation Administration

14 CFR Part 39

[Docket No. 98-NM-260-AD; Amendment 39-11828; AD 2000-14-17]

RIN 2120-AA64

Airworthiness Directives; Bombardier Model CL-600-2B19 Series Airplanes

AGENCY: Federal Aviation Administration, DOT.

ACTION: Final rule.

SUMMARY: This amendment supersedes an existing airworthiness directive (AD), applicable to certain Bombardier Model CL-600-2B19 series airplanes, that currently requires revising the Airplane Flight Manual (AFM) to require the flight crew to check, and reset, if necessary, certain instrument settings prior to each takeoff and after any event during which generators are switched. This amendment adds a new revision to the AFM and revises the applicability of the existing AD. This amendment also requires modification of the air data reference systems. This amendment is prompted by issuance of mandatory continuing airworthiness information by a foreign civil airworthiness authority. The actions specified by this AD are intended to prevent uncommanded changes in certain instrument settings on the pilot's and co-pilot's instrument displays, which could result in confusion among the flight crew about the correct position and flight configuration of the airplane.

DATES: Effective August 28, 2000.

The incorporation by reference of certain publications listed in the regulations is approved by the Director of the Federal Register as of August 28, 2000.

ADDRESSES: The service information referenced in this AD may be obtained from Bombardier, Inc., Canadair, Aerospace Group, P.O. Box 6087, Station Centreville, Montreal, Quebec H3C 3G9, Canada.

This information may be examined at the Federal Aviation Administration (FAA), Transport Airplane Directorate, Rules Docket, 1601 Lind Avenue, SW., Renton, Washington; or at the FAA, Engine and Propeller Directorate, New York Aircraft Certification Office, 10 Fifth Street, Third Floor, Valley Stream, New York; or at the Office of the Federal Register, 800 North Capitol Street, NW., suite 700, Washington, DC.

FOR FURTHER INFORMATION CONTACT: Peter Cuneo, Aerospace Engineer, Systems and Flight Test Branch, ANE-172, FAA, Engine and Propeller Directorate, New York Aircraft Certification Office, 10 Fifth Street, Third Floor, Valley Stream, New York 11581; telephone (516) 256-7506, fax (516) 568-2716.

SUPPLEMENTARY INFORMATION: A proposal to amend part 39 of the Federal Aviation Regulations (14 CFR part 39) by superseding AD 96-21-02, amendment 39-9778 (61 FR 52688, October 8, 1996), which is applicable to certain Bombardier Model CL-600-2B19 series airplanes, was published in the Federal Register on August 6, 1999 (64 FR 42866). The action proposed to supersede AD 96-21-02 to continue to require revising the Limitations Section of the FAA-approved Airplane Flight Manual (AFM) to require the flight crew to check, and reset, if necessary, certain instrument settings prior to each takeoff and after any event during which generators are switched. The action also proposed to add a new temporary revision to the Emergency, Normal, and Abnormal Procedures Sections and Supplements 4 and 8 of the FAA-approved AFM to provide information for the flight crew concerning intermittent failures of the air data system resulting in uncommanded changes to the pilot's or co-pilot's flight instruments, and to provide procedures for the flight crew to check and reset certain instrument settings. In addition, the action proposed to limit the applicability of the existing AD to exclude certain airplanes on which the modification was accomplished during manufacture. The action also proposed to require modification of the air data reference systems, which, when accomplished, would terminate the requirement for revising the AFM.

Interested persons have been afforded an opportunity to participate in the making of this amendment. Due consideration has been given to the comments received.

Request to Reference Latest Service Bulletin Revision

One commenter requests that the FAA reference the latest revision to the service bulletin referenced in the proposal as an acceptable means of compliance. The FAA concurs with the commenter's request. Since the issuance of the proposal, the manufacturer has issued Canadair Regional Jet Service Bulletin S.B. 601R-34-094, Revision ‘E,’ dated October 12, 1999. The technical content of the service bulletin is similar to Revision ‘B,’ which is cited in this final rule as the appropriate source of service information for accomplishment of the actions required by this AD. Revision ‘E’ was issued to provide alternative wiring changes. In addition, the FAA also has determined that accomplishment of the modification in accordance with Revision ‘C,’ dated September 17, 1998, or Revision ‘D,’ dated March 12, 1999, is acceptable for compliance.

The FAA has added a note to this final rule to specify that accomplishment of the modification in accordance with Revision ‘C,’ ‘D,’ or ‘E’ of the service bulletin is acceptable for compliance.

Request to Delete References to “Series 100” Airplanes

One commenter, the manufacturer, requests that the FAA delete its reference in the proposal to “Series 100” airplanes. The commenter indicates that the reference causes confusion, as a “Series 200” airplane also exists as a marketing designation. [While the “Series 100” is listed on the Type Certificate Data Sheet (TCDS), the “Series 200” is not.] The FAA concurs with this request, and has removed all such references from this final rule.

Conclusion

After careful review of the available data, including the comments noted above, the FAA has determined that air safety and the public interest require the adoption of the rule with the changes previously described. The FAA has determined that these changes will neither increase the economic burden on any operator nor increase the scope of the AD.

Cost Impact

There are approximately 86 airplanes of U.S. registry that will be affected by this AD.

The AFM revision that is currently required by AD 96-21-02, and is retained in this AD, takes approximately 1 work hour per airplane to accomplish, at an average labor rate of $60 per work hour. Based on these figures, the cost impact of the currently required AFM on U.S. operators is estimated to be $5,160, or $60 per airplane.

The new AFM revision that is required by this AD will take approximately 1 work hour per airplane to accomplish, at an average labor rate of $60 per work hour. Based on these figures, the cost impact of the new AFM revision required by this AD on U.S. operators is estimated to be $5,160, or $60 per airplane.

The new modification that is required by this AD will take approximately 11 work hours per airplane to accomplish, at an average labor rate of $60 per work hour. Required parts will be provided by the manufacturer at no charge to the operators. Based on these figures, the cost impact of the modification required by this AD on U.S. operators is estimated to be $56,760, or $660 per airplane.

The cost impact figures discussed above are based on assumptions that no operator has yet accomplished any of the requirements of this AD action, and that no operator would accomplish those actions in the future if this AD were not adopted.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-9778 (61 FR 52688, October 8, 1996), and by adding a new airworthiness directive (AD), amendment 39-11828, to read as follows:

2000-14-17—Bombardier, Inc. (Formerly Canadair): Amendment 39-11828. Docket 98-NM-260-AD. Supersedes AD 96-21-02, Amendment 39-9778.

Applicability: Model CL-600-2B19 series airplanes having serial numbers 7003 through 7207 inclusive, certificated in any category; except those airplanes on which Canadair Regional Jet Service Bulletin S.B. 601R-34-094, Revision ‘B,’ dated November 14, 1997, has been accomplished.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To prevent uncommanded changes in the settings on the pilot's and co-pilot's instrument displays, which could result in confusion among the flight crew about the correct position and flight configuration of the airplane, accomplish the following:

Restatement of the Requirements of AD 96-21-02, Amendment 39-9778

(a) Within 3 days after October 15, 1996 (the effective date of AD 96-21-02, amendment 39-9778), revise the Limitations Section of the FAA-approved Airplane Flight Manual (AFM) to include the following statement. This may be accomplished by inserting a copy of this AD in the AFM.

“Prior to each takeoff and after any event during which generators are switched, check the settings of the barometric altimeter, altitude pre-selector, V-speed, and speed bug. If any discrepancy is detected, reset, as necessary.”

New Requirements of This Ad

AFM Temporary Revision

(b) Within 2 days after the effective date of this AD, revise the Emergency, Normal, and Abnormal Procedures Sections, and Supplements 4 and 8 of the FAA-approved AFM by inserting Canadair Regional Jet Temporary Revision RJ/50-2, dated June 1, 1997, into the applicable section of the AFM.

Note 2: The AFM revisions required by paragraph (b) of this AD are accomplished by inserting a copy of the Temporary Revisions into the applicable section of the AFM. When these Temporary Revisions have been incorporated into the general revisions of the AFM, the general revisions may be inserted into the AFM, provided that the information contained in the general revisions is identical to that specified in the Temporary Revisions.

Replacement

(c) Within 18 months after the effective date of this AD, modify the air data reference systems in accordance with Canadair Regional Jet Service Bulletin S.B. 601R-34-094, Revision ‘B,’ dated November 14, 1997. After accomplishment of the modification, the AFM revisions required by paragraphs (a) and (b) of this AD may be removed from the AFM.

Note 3: Accomplishment of the modification in accordance with Canadair Regional Jet Service Bulletin S.B. 601R-34-094, Revision “C,” dated September 17, 1998; Revision “D,” dated March 12, 1999; or Revision “E,” dated October 12, 1999; is acceptable for compliance with the requirements of paragraph (c) of this AD.

Alternative Methods of Compliance

(d) An alternative method of compliance or adjustment of the compliance time that provides an acceptable level of safety may be used if approved by the Manager, New York Aircraft Certification Office (ACO), FAA, Engine and Propeller Directorate. Operators shall submit their requests through an appropriate FAA Principal Maintenance Inspector, who may add comments and then send it to the Manager, New York ACO.

Note 4: Information concerning the existence of approved alternative methods of compliance with this AD, if any, may be obtained from the New York ACO.

Special Flight Permits

(e) Special flight permits may be issued in accordance with §§ 21.197 and 21.199 of the Federal Aviation Regulations (14 CFR 21.197 and 21.199) to operate the airplane to a location where the requirements of this AD can be accomplished.

Incorporation by Reference

(f) Except as provided by paragraph (a) of this AD, the actions shall be done in accordance with Canadair Regional Jet Temporary Revision RJ/50-2, dated June 1, 1997; and Canadair Regional Jet Service Bulletin S.B. 601R-34-094, Revision ‘B,’ dated November 14, 1997. This incorporation by reference was approved by the Director of the Federal Register in accordance with 5 U.S.C. 552(a) and 1 CFR part 51. Copies may be obtained from Bombardier, Inc., Canadair, Aerospace Group, P.O. Box 6087, Station Centreville, Montreal, Quebec H3C 3G9, Canada. Copies may be inspected at the FAA, Transport Airplane Directorate, 1601 Lind Avenue, SW., Renton, Washington; or at the FAA, Engine and Propeller Directorate, New York Aircraft Certification Office, 10 Fifth Street, Third Floor, Valley Stream, New York; or at the Office of the Federal Register, 800 North Capitol Street, NW., suite 700, Washington, DC.

Note 5: The subject of this AD is addressed in Canadian airworthiness directive CF-96-16R1, dated June 24, 1998.

(g) This amendment becomes effective on August 28, 2000.

Issued in Renton, Washington, on July 14, 2000.
Donald L. Riggin,
Acting Manager, Transport Airplane Directorate, Aircraft Certification Service.

[FR Doc. 00-18391 Filed 7-21-00; 8:45 am]

BILLING CODE 4910-13-U